DEPARTMENT OF COMMERCE

International Trade Administration

[A-570-887]

Tetrahydrofurfuryl Alcohol From the People's Republic of China: Final Results of the Second Expedited Sunset Review of the Antidumping Duty Order

AGENCY: Enforcement and Compliance, International Trade Administration, Department of Commerce.

SUMMARY: As a result of this sunset review, the Department of Commerce (“Department”) finds that revocation of the antidumping duty order on tetrahydrofurfuryl alcohol (“THFA”) from the People's Republic of China (“PRC”) would be likely to lead to continuation or recurrence of dumping. The magnitude of the dumping margins likely to prevail is indicated in the “Final Results of the Sunset Review” section of this notice.

DATES: Effective Date: March 12, 2015.

FOR FURTHER INFORMATION CONTACT: Paul Stolz; AD/CVD Operations, Office III, Enforcement and Compliance, International Trade Administration, U.S. Department of Commerce, 14th Street and Constitution Avenue NW., Washington, DC 20230; telephone: 202-482-4474.

SUPPLEMENTARY INFORMATION:

Background

On November 3, 2014, the Department initiated a sunset review of the antidumping duty order on THFA from the PRC pursuant to section 751(c) of the Tariff Act of 1930, as amended (“Act”).¹ On November 6, 2014, Penn A Kem LLC (“PAK”), the petitioner in the THFA investigation, timely notified the Department that it intended to participate in the sunset review claiming domestic interested party status under 19 CFR 351.102(b)(29)(v) and section 771(9)(C) of the Act, as a domestic producer of THFA.² The Department then received a complete substantive response filed by PAK on December 2, 2014, within the 30-day deadline specified in 19 CFR 351.218(d)(3)(i).³ The Department did not receive any responses from any respondent interested parties. As a result, pursuant to section 751(c)(3)(B) of the Act and 19 CFR 351.218(e)(1)(ii)(C)(2), we conducted an expedited (120-day) sunset review of the Order. As a result of this sunset review, the Department finds that revocation of the Order would likely lead to continuation or recurrence of dumping, at the levels indicated in the “Final Results of the Sunset Review” section of this notice, infra.

¹ See Initiation of Five-year (“Sunset”) Review, 79 FR 65186 (November 3, 2014) (“Sunset Initiation”); see also Notice of Antidumping Duty Order: Tetrahydrofurfuryl Alcohol From the People's Republic of China, 69 FR 47911 (August 6, 2004) (“Order”).

² See PAK's letter, “Sunset Review (Second Review) of the Antidumping Duty Order on Tetrahydrofurfuryl Alcohol From the People's Republic of China: Domestic Interested Party Notification of Intent to Participate,” dated November 6, 2014; see also 19 CFR 351.218(d)(1)(i).

³ See PAK's letter, “Sunset Review (Second Review) of the Antidumping Duty Order on Tetrahydrofurfuryl Alcohol From the People's Republic of China: Substantive Response to Notice of Initiation,” dated December 2, 2014.

Scope of the Order

The product covered by this order is THFA (C5H10O2). THFA, a primary alcohol, is a clear, water white to pale yellow liquid. THFA is a member of the heterocyclic compounds known as furans and is miscible with water and soluble in many common organic solvents. THFA is currently classifiable in the Harmonized Tariff Schedules of the United States (“HTSUS”) under subheading 2932.13.00.00. Although the HTSUS subheadings are provided for convenience and for customs purposes, the Department's written description of the merchandise subject to the order is dispositive.

Analysis of Comments Received

A complete discussion of all issues raised in this sunset review is provided in the accompanying Issues and Decision Memorandum, which is hereby adopted by this notice.⁴ The issues discussed in the Issues and Decision Memorandum include the likelihood of continuation or recurrence of dumping and the magnitude of the margins of dumping likely to prevail if the order were revoked. The Issues and Decision Memorandum is a public document and is on file electronically via Enforcement and Compliance's Antidumping and Countervailing Duty Centralized Electronic Service System (“ACCESS”).⁵ ACCESS is available to registered users at http://access.trade.gov and to all parties in the Central Records Unit, Room 7046 of the main Department of Commerce building. In addition, a complete version of the Issues and Decision Memorandum can be accessed at http://enforcement.trade.gov/frn/. The signed Issues and Decision Memorandum and the electronic version of the Issues and Decision Memorandum are identical in content.

⁴ See the Department's memorandum from Christian Marsh, Deputy Assistant Secretary for Antidumping and Countervailing Duty Operations, to Paul Piquado, Assistant Secretary for Enforcement and Compliance, entitled, “Issues and Decision Memorandum for the Final Results of the Expedited Second Sunset Review of the Antidumping Duty Order on Tetrahydrofurfuryl Alcohol From the People's Republic of China,” dated concurrently with this notice.

⁵ On November 24, 2014, Enforcement and Compliance changed the name of Enforcement and Compliance's AD and CVD Centralized Electronic Service System (“IA ACCESS”) to AD and CVD Centralized Electronic Service System (“ACCESS”). The Web site location was changed from http://iaaccess.trade.gov to http://access.trade.gov. The Final Rule changing the references to the Regulations can be found at 79 FR 69046 (November 20, 2014).

Final Results of the Sunset Review

Pursuant to sections 751(c)(1) and 752(c)(1) and (3) of the Act, the Department determines that revocation of the Order would be likely to lead to continuation or recurrence of dumping at weighted-average dumping margins up to 136.86 percent.

Notification Regarding Administrative Protective Orders

This notice also serves as the only reminder to parties subject to administrative protective orders (“APO”) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing the results and notice in accordance with sections 751(c), 752(c), and 777(i)(1) of the Act and 19 CFR 351.218.

Dated: March 3, 2015.
Paul Piquado,
Assistant Secretary for Enforcement and Compliance.

[FR Doc. 2015-05713 Filed 3-11-15; 8:45 am]

BILLING CODE 3510-DS-P